DEPARTMENT OF ENERGY

Federal Energy Regulatory Commission

[Docket No. CP00-97-000]

El Paso Natural Gas Company; Notice of Request Under Blanket Authorization

March 1, 2000.

Take notice that on February 23, 2000, El Paso Natural Gas Company (El Paso), P.O. Box 1492, El Paso, Texas 79978-1492, filed in Docket No. CP00-97-000 a request pursuant to Sections 157.205 and 157.16(b) of the Commission's Regulations under the Natural Gas Act (18 CFR 157.205 and 157.208(b)) for authorization to uprate the Maximum Allowable Operating Pressure (MAOP) of the Ramsey Plant Line (Line 3152),¹ originating in Eddy County, New Mexico, and terminating in Reeves County, Texas, and to thereafter operate Line 3152 at the higher MAOP under the blankete certificate issued in Docket No. CP82-435-000, pursaunt to Section 7(b) of the Natural Gas Act, all as more fully set forth in the request which is on file with the Commission and open to public inspection. The application may be viewed on the web at www.ferc.fed.us/online/rims.htm. Call (202) 208-2222 for assistance.

¹ Line No. 3152 is a 6⅝” O.D. lateral line approximately 8.7 miles long, which was originally constructed as a gas supply lateral and was designed to operate at an MAOP of 650 psig in order to receive up to approximately 10 MMcf/d of natural gas under budget-type authority in Docket No. G-17256 (21 FPC 474).

El Paso states it received a request from Huntington Energy, L.L.C. (Huntington) to deliver gas from high pressure gas sources to El Paso's California Mainline System and that the requested uprate will permit it to receive up to 30 MMcf/d of gas for transportation for Huntington. El Paso states that Line No. 3152 currently has a certificated operating limit of 650 psig, El Paso seeks authorization to uprate the MAOP to 960 psig. El Paso states that estimated cost to uprate Line No. 3152 with the installation of pressure regulators is $88,900, which Huntington will reimburse El Paso for all costs associated with the uprating. El Paso plans an in-service date for the operation of Line No. 3152 at the higher MAOP of 960 psig of no later than May 1, 2000.

El Paso states that Line No. 3152 was originally used to deliver gas from the former Continental Ramsey Oil Plant Receipt Point (Continental) into its 16” Jal-El Paso “A” Line. In 1993, Continental was converted to a delivery point and became the Conoco Ramsey Plant Delivery Point (Concoc) and El Paso reversed the flow of gas in Line No. 3152. In 1997, the Orla Petco Delivery Point (Orla) was installed adjacent to Conoco. According to El Paso, the reversal of the flow on Line No. 3152 will not adversely affect deliveries to Conoco and Orla, since they will be served by natural gas supplies from the Huntington Receipt Point.

Any questions regarding this application should be directed to Robert T. Tomlinson, Director, Tariff and Certificate Department for El Paso, 100 North Stanton, El Paso, Texas 79901 at (915) 496-5959, or Michael D. Moore, Director, Federal Agency Relations for El Paso, 601 13th Street, NW., Suite 850 South, Washington, DC 20005 at (202) 662-4310.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed authorized effective the day after the time allowed for filing a protest. If a protest is filed and not withdrawn within 30 days after the time allowed for filing a protest, the instant request shall be treated as an application for authorization pursaunt to Section 7 of the Natural Gas Act.

David P. Boegers,
Secretary.

[FR Doc. 00-5442 Filed 3-2-00; 8;45 am]

BILLING CODE 6717-01-M